DEPARTMENT OF LABOR

Employment and Training Administration

[TA-W-38,013]

Robert Bosch Corporation, Hendersonville, TN; Notice of Termination of Investigation

Pursuant to section 221 of the Trade Act of 1974, an investigation was initiated on August 28, 2000 in response to a worker petition which was dated on August 3, 2000 on behalf of workers at Robert Bosch Corporation, Hendersonville, Tennessee.

An active certification covering the petitioning group of workers remains in effect (TA-W-36,523). Consequently, further investigation in this case would serve no purpose, and the investigation has been terminated.

Signed in Washington, D.C. this 6th day of October 2000.
Linda G. Poole,
Certifying Officer, Division of Trade Adjustment Assistance.

[FR Doc. 00-27572 Filed 10-25-00; 8:45 am]

BILLING CODE 4510-30-M